DEPARTMENT OF LABOR

Office of the Secretary

Submission for OMB Review: Comment Request

November 20, 2007.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Katherine Astrich, OMB Desk Officer for the Employment and Training Administration (ETA), Office of Management and Budget, Room 10235, Washington, DC 20503, Telephone: 202-395-7316/Fax: 202-395-6974 (these are not a toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title: Application for Alien Employment Certification.

OMB Control Number: 1205-0015.

Form Number: ETA-750, Parts A and B.

Affected Public: Private Sector: Business or other for-profits; Farms; and Not-for-profit institutions.

Estimated Number of Respondents: 38,635.

Estimated Total Annual Burden Hours: 56,426.

Estimated Total Annual Costs Burden: $1,318,838.

Description: The information collection is required by section 212(a)(5)(A), section 214(c) and section 218 of the Immigration and Nationality Act (INA) (8 U.S.C. 1182(a)(5)(A), 1184(c) and 1188). The INA mandates the Secretary of Labor to certify that any alien seeking to enter the United States for the purpose of performing skilled or unskilled labor is not adversely affecting wages and working conditions of U.S. workers similarly employed and that there are not sufficient U.S. workers able, willing, and qualified to perform such skilled or unskilled labor. Before any employer may request any skilled or unskilled alien labor, it must submit a request for certification to the Secretary of Labor containing the elements prescribed by the INA or meet one of the exceptions in the INA. Both the Department of Labor and the Department of Homeland Security have promulgated regulations to implement these sections of the INA. The relevant regulations are 20 CFR 655.1-4, 20 CFR 655.90-113, 20 CFR 655.200-215, 8 CFR 204.5(k)(4)(ii), and 8 CFR 214.2(h)(5) and (6).

In order to meet its statutory responsibilities under the INA, the Department needs to extend an existing collection of information pertaining to employers seeking to import foreign labor. The Form ETA-750 is the mechanism used to collect the necessary information which is utilized not only by the Department, but also by other Federal agencies to meet the requirements of the INA. The Department uses the information collected to implement several of its nonimmigrant worker programs, including the H-2A and H-2B temporary work programs, and for both permanent and temporary programs for the employment of alien professional athletes. The Department of Homeland Security, U.S. Citizenship and Immigration Services, utilizes the form for its National Interest Waiver program for employment-sponsored immigration.

Agency: Employment and Training Administration.

Type of Review: Revision and extension of a currently approved collection.

Title: Employment and Training Data Validation Requirement.

OMB Number: 1205-0448.

Form Numbers: ETA-DRVS Labor Exchange User's Guide Version 6.3; DRVS Workforce Investment Act Users Guide Version 6.3; NFJP Validation Form Version 2.0; and TAA Handbook Version 2.0.

Affected Public: State governments and not-for-profit institutions.

Estimated Number of Respondents: 318.

Estimated Total Annual Burden Hours: 69,332.

Estimated Total Annual Costs Burden: $0.

Description: The accuracy and reliability of program reports submitted by states and grantees using Federal funds are fundamental elements of good public administration, and are necessary tools for maintaining and demonstrating system integrity. The President's Management Agenda to improve the management and performance of the Federal government has emphasized the importance of complete information for program monitoring and improving program results. States and grantees receiving funding under WIA Title IB, Wagner-Peyser Act, TAA, and the Older Americans Act (i.e., SCSEP) are required to maintain and report accurate program and financial information (WIA section 185 (29 U.S.C. 2935) and WIA Regulations 20 CFR 667.300(e)(2), Wagner-Peyser Act section 10 (29 U.S.C. 49i), Older Americans Act section 503(f)(3) and (4) (42 U.S.C. 3056a(f)(3) and (4)), and TAA regulations 20 CFR 617.57). Further, all states and grantees receiving funding from ETA and the Veterans' Employment and Training Service are required to submit reports or participant records and attest to the accuracy of these reports and records. For additional information, please refer to a related notice published on June 1, 2007 at 72 FR 30639.

Darrin A. King,
Acting Departmental Clearance Officer.

[FR Doc. E7-23005 Filed 11-26-07; 8:45 am]

BILLING CODE 4510-FW-P